DEPARTMENT OF THE INTERIOR

National Park Service

[N6644; NPS-WASO-NAGPRA-NPS0041378; PPWOCRADN0-PCU00RP14.R50000]

Notice of Intended Repatriation: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) intends to repatriate certain cultural items that meet the definition of unassociated funerary objects, sacred objects, and objects of cultural patrimony and that have a cultural affiliation with the Indian Tribes or Native Hawaiian organizations in this notice.

DATES: Repatriation of the cultural items in this notice may occur on or after January 15, 2026.

ADDRESSES: Send additional, written requests for repatriation of the cultural items in this notice to Jane Pickering, Peabody Museum of Archaeology and Ethnology, Harvard University, 11 Divinity Avenue, Cambridge, MA 02138, email jpickering@fas.harvard.edu.

SUPPLEMENTARY INFORMATION: This notice is published as part of the National Park Service's administrative responsibilities under NAGPRA. The determinations in this notice are the sole responsibility of the PMAE, and additional information on the determinations in this notice, including the results of consultation, can be found in the summary or related records. The National Park Service is not responsible for the determinations in this notice.

Abstract of Information Available

A total of 30 cultural items has been requested for repatriation. Unless otherwise noted, all items were likely removed by Frank Hamilton Cushing between 1886 and 1889 as part of the Hemenway Southwestern Archaeological Expedition.

The one lot of unassociated funerary objects from the Casa Blancas in Maricopa County, AZ, consists of shell fragments, ceramic beads, and ceramic fragments.

The one lot of sacred objects from the Casa Blancas in Maricopa County, AZ, consists of stone pendants, stone discs, stone projectile points, ceramic fragments, and faunal remains.

The one lot of unassociated funerary objects from the Ciudad de la Mesa site in Maricopa County, AZ, consists of ceramic, stone, obsidian, and shell items.

The one lot of sacred objects from the Ciudad de la Mesa site in Maricopa County, AZ, consists of shell items.

The one lot of unassociated funerary objects from the La Ciudad de los Pueblitos site in Maricopa County, AZ, consists of bone faunal remains and ceramic items.

The one lot of sacred objects from the La Ciudad de los Pueblitos site in Maricopa County, AZ, consists of stone and ceramic items.

The one lot of unassociated funerary objects from the Las Acequias site in Maricopa County, AZ, consists of ceramic, shell, bone, turquoise, wood, and obsidian items, fiber basket fragments, corn and other floral remains, and faunal remains.

The one lot of sacred objects from the Las Acequias site in Maricopa County, AZ, consists of stone, ceramic, obsidian, and wood items.

The one lot of unassociated funerary objects from the Los Guanacos site in Maricopa County, AZ, consists of ceramic, bone, shell, adobe, quartz, turquoise, stone items, cloth and pigment fragments, and corn.

The one lot of sacred objects from the Los Guanacos Site in Maricopa County, AZ, consists of clay, ceramic, stone, sandstone, and wood items.

The one lot of unassociated funerary objects from the Los Hornos site in Maricopa County, AZ, consists of wood, bone, metal, ceramic, shell, quartz and stone items, turquoise fragments, charcoal and floral and faunal remains.

The one lot of sacred objects from the Los Hornos site in Maricopa County, AZ, consists of wood, ceramic and stone items.

The one lot of unassociated funerary objects from the Los Muertos site in Maricopa County, AZ, consists of shell, ceramic, clay, stone, turquoise, terracotta, bone, quartz items, floral and faunal remains, and pigment and mineral fragments.

The one lot of sacred objects from the Los Muertos site in Maricopa County, AZ, consists of stone, ceramic, shell, bone, obsidian items, and mineral fragments.

The one lot of objects of cultural patrimony from the Los Muertos site in Maricopa County, AZ, consists of cardium shell disks.

The one lot of unassociated funerary objects from the Pueblo de las Canopas site in Maricopa County, AZ, consists of ceramic, shell, wood, and stone items, and corn and floral remains.

The one lot of sacred objects from the Pueblo de las Canopas site in Maricopa County, AZ, consists of ceramic, stone and shell items.

The one lot of unassociated funerary objects from the Pueblo del Patricio site in Maricopa County, AZ, consists of stone and ceramic items.

The one lot of sacred objects from the Pueblo del Patricio site in Maricopa County, AZ, consists of ceramic, stone and shell items.

The one lot of unassociated funerary objects from the Pueblos Aribas site in Maricopa County, AZ, consists of shell items.

The one lot of sacred objects from the Pueblos Aribas site in Maricopa County, AZ, consists of shell items.

The one lot of unassociated funerary objects from Gila Bend in Maricopa County, AZ, consists of shell items.

The one of lot of unassociated funerary objects from Phoenix, Maricopa County, AZ, consists of stone items.

The one lot of sacred objects from Casa Blanca, Pinal County, AZ, consists of ceramic items.

The one lot of sacred objects from Maricopa County, AZ, consists of ceramic items.

The one lot of objects of cultural patrimony from Maricopa County, AZ, consists of wood items.

The one lot of sacred objects from Maricopa County, AZ, with unknown provenance consists of stone items.

The one lot of sacred objects from Phoenix, Maricopa County, AZ, consists of stone and obsidian items that were likely removed by J.H. Woods and Dr. Warren King Moorehead.

The one lot of unassociated funerary objects from Tempe, Maricopa County, AZ, consists of stone and slag items that were likely removed by J.H. Woods and Dr. Warren King Moorehead.

The one lot of sacred objects from Tempe, Maricopa County, AZ, consists of stone items that were likely removed by J.H. Woods and Dr. Warren King Moorehead.

Determinations

The PMAE has determined that:

• The 13 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 15 sacred objects described in this notice are specific ceremonial objects needed by a traditional Native American religious leader for present-day adherents to practice traditional Native American religion, according to the Native American traditional knowledge of a lineal descendant, Indian Tribe, or Native Hawaiian organization.

• The two objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 15, 2026. If competing requests for repatriation are received, the PMAE must determine the most appropriate requestor prior to repatriation. Requests for joint repatriation of the cultural items are considered a single request and not competing requests. The PMAE is responsible for sending a copy of this notice to the Indian Tribes and Native Hawaiian organizations identified in this notice and to any other consulting parties.

Authority: Native American Graves Protection and Repatriation Act, 25 U.S.C. 3004 and the implementing regulations, 43 CFR 10.9.

Dated: November 20, 2025.
Melanie O'Brien,
Manager, National NAGPRA Program.

[FR Doc. 2025-22919 Filed 12-15-25; 8:45 am]

BILLING CODE 4312-52-P